DEPARTMENT OF LABOR

Employment and Training Administration

[TA-W-74,057]

Specialty Minerals, Inc., Franklin, VA; Notice of Revised Determination on Reconsideration

On June 18, 2010, the Department issued a negative determination regarding workers' eligibility to apply for Trade Adjustment Assistance (TAA) applicable to workers of Specialty Minerals, Inc., Franklin, Virginia (the subject firm). The Notice was published in the Federal Register on July 1, 2010 (75 FR 38142). On August 19, 2010, the Department issued a Notice of Negative Determination Regarding Application for Reconsideration applicable to workers of the subject firm. The Notice was published in the Federal Register on August 30, 2010 (75 FR 52989). The workers produced precipitated calcium carbonate used in the production of paper.

In the request for reconsideration, the company official asserted that workers of the subject firm are eligible to apply for TAA as adversely affected secondary workers because the precipitated calcium carbonate was supplied to a “paper mill” that employed a worker group eligible to apply for TAA and identified the firm covered by TA-W-72,764 as the primary firm.

Section 222(c) of the Trade Act of 1974, as amended, states that adversely affected secondary workers must be employed by a firm that is a supplier to a firm that employed a worker group who are adversely affected primary workers.

The Notice of Negative Determination Regarding Application for Reconsideration was based on the Department's determination that, because the workers covered by TA-W-72,764 are certified eligible to apply for TAA as adversely affected secondary workers, the criteria of Section 222(c) was not met.

Subsequent to the issuance of the Notice of Negative Determination Regarding Application for Reconsideration, the Department issued an amended certification of TA-W-72,764 which identified those workers as eligible to apply for TAA as primary workers instead of adversely affected secondary workers.

After careful review of previously-submitted information and the additional facts obtained on reconsideration, I determine that workers of Specialty Minerals, Inc., Franklin, Virginia, who are engaged in employment related to the production of precipitated calcium carbonate used in the production of paper, meet the worker group certification criteria under Section 222(c) of the Act, 19 U.S.C. 2272(c). In accordance with Section 223 of the Act, 19 U.S.C. 2273, I make the following certification:

All workers of Specialty Minerals, Inc., Franklin, Virginia, who became totally or partially separated from employment on or after May 6, 2009, through two years from the date of this revised certification, and all workers in the group threatened with total or partial separation from employment on date of certification through two years from the date of certification, are eligible to apply for adjustment assistance under Chapter 2 of Title II of the Trade Act of 1974, as amended.

Signed in Washington, DC, this 22nd day of December 2010.
Del Min Amy Chen,
Certifying Officer, Office of Trade Adjustment Assistance.

[FR Doc. 2011-515 Filed 1-11-11; 8:45 am]

BILLING CODE 4510-FN-P